FEDERAL COMMUNICATIONS COMMISSION

47 CFR Part 73

[DA 02-3361; MB Docket No. 02-376, RM-10617]

Radio Broadcasting Services; Sells, AZ

AGENCY: Federal Communications Commission.

ACTION: Proposed rule.

SUMMARY: At the request of Rural Pima Broadcasting, this document proposes the allotment of Channel 285A at Sells, Arizona, as the community's first local aural transmission service at a site 9.3 kilometers (5.8 miles) south of the community at coordinates 31-49-44 NL and 111-53-28 WL.

DATES: Comments must be filed on or before January 30, 2003, and reply comments must be filed on or before February 14, 2003.

ADDRESSES: Federal Communications Commission, Washington, DC 20554. In addition to filing comments with the FCC, interested parties should serve the petitioners as follows: Scott Cinnamon, Esq., Law Offices of Scott Cinnamon, PC, 1090 Vermont Ave., NW., Suite 800, #144, Washington, DC 20005.

FOR FURTHER INFORMATION CONTACT: Victoria M. McCauley, Media Bureau, (202) 418-2180.

SUPPLEMENTARY INFORMATION: This is a synopsis of the Commission's Notice of Proposed Rule Making, MB Docket No. 02-376, adopted December 4, 2002, and released, December 9, 2002. The full text of this document is available for public inspection and copying during regular business hours at the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via e-mail qualexint@aol.com.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

2. Section 73.202(b), the Table of FM Allotments under Texas, is amended by adding Sells, Channel 285A.

Federal Communications Commission.
John A. Karousos,
Assistant Chief, Audio Division Media Bureau.

[FR Doc. 02-32292 Filed 12-23-02; 8:45 am]

BILLING CODE 6712-01-P